DEPARTMENT OF ENERGY

Federal Energy Regulatory Commission

[Docket No. IC19-35-000]

Commission Information Collection Activities (FERC-515); Comment Request; Extension

AGENCY: Federal Energy Regulatory Commission, DOE.

ACTION: Notice of information collection and request for comments.

SUMMARY: In compliance with the requirements of the Paperwork Reduction Act of 1995 (PRA), the Federal Energy Regulatory Commission (Commission or FERC) is soliciting public comment on the currently approved information collection FERC-515 (Declaration of Intention) and submitting the information collection to the Office of Management and Budget (OMB) for review. Any interested person may file comments directly with OMB and should address a copy of those comments to the Commission as explained below.

DATES: Comments on the collection of information are due January 29, 2020.

ADDRESSES: Comments filed with OMB, identified by OMB Control No. 1902-0079, should be sent via email to the Office of Information and Regulatory Affairs: oira_submission@omb.gov, Attention: Federal Energy Regulatory Commission Desk Officer.

A copy of the comments should also be sent to the Commission, in Docket No. IC19-35-000, by either of the following methods:

• eFiling at Commission's Web site: http://www.ferc.gov/docs-filing/efiling.asp

• Mail: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-515 (Declaration of Intention)

OMB Control No.: 1902-0079

Type of Request: Three-year extension of the FERC-515 information collection requirements with no changes to the current reporting requirements.

Abstract: On October 16, 2019, the Commission published a Notice in the Federal Register (84 FR 55313) in Docket No. IC19-35-000 requesting public comments. The Commission received no public comments.

The Commission uses the information collected under the requirements of FERC-515 to implement the statutory provisions of section 23(b) of the Federal Power Act (FPA).¹ section 23(b) authorizes the Commission to make a determination as to whether it has jurisdiction over a proposed water project ² not affecting navigable waters ³ but across, along, over, or in waters over which Congress has jurisdiction under its authority to regulate commerce with foreign nations and among the several States. Section 23(b) requires that any person intending to construct project works on such waters must file a declaration of their intention with the Commission. If the Commission finds the proposed project will have an impact on interstate or foreign commerce, then the entity intending to construct the project must obtain a Commission license or exemption before starting construction.⁴

¹ 16 U.S.C. 817.

² Dams or project works (16 U.S.C. 817).

³ See 16 U.S.C. 796 (8) for the definition of Navigable Waters.

⁴ Upon a finding of non-jurisdictional by the Commission, and if the project does not utilize surplus water or waterpower from a government dam and no public lands or reservations are affected, permission is granted upon compliance with State laws.

The information is collected in the form of a written application, containing sufficient details to allow the Commission staff to research the jurisdictional aspects of the project. This research includes examining maps and land ownership records to establish whether or not there is Federal jurisdiction over the lands and waters affected by the project. A finding of non-jurisdictional by the Commission eliminates a substantial paperwork burden for the applicant who might otherwise have to file for a license or exemption application. The Commission implements these filing requirements under 18 CFR part 24.

Type of Respondents: Persons intending to construct project works on certain waters described above.

Estimate of Annual Burden.⁵ The Commission estimates the annual public reporting burden and cost ⁶ for the information collection as:

⁵ Burden is defined as the total time, effort, or financial resources expended by persons to generate, maintain, retain, or disclose or provide information to or for a federal agency. See 5 CFR 1320 for additional information on the definition of information collection burden.

⁶ Commission staff considers resources completing the FERC-515 to be compensated at rates similar to FERC employees. Therefore we are using the 2019 FERC average hourly cost (for wages and benefits for one full-time employee) of $80.00/hour (or $167,091/year).

FERC-515: Declaration of Intention
Number of respondents | Annual number of responses per respondent | Total number of responses | Average burden hours & cost ($) per response | Total annual burden hours & total annual cost ($) | Cost per respondent ($)
(1) | (2) | (1)*(2) = (3) | (4) | (3)*(4) = (5) | (5)÷(1)
6 | 1 | 6 | 80 hrs.; $6,400 | 480 hrs.; $38,400 | $6,400

Comments: Comments are invited on: (1) Whether the collection of information is necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

Dated: December 17, 2019.
Nathaniel J. Davis, Sr.,
Deputy Secretary.

[FR Doc. 2019-28065 Filed 12-27-19; 8:45 am]

BILLING CODE 6717-01-P